DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-0361.

Project: Zero Suicide in Health Systems Evaluation—New Package

The Substance Abuse and Mental Health Services Administration (SAMHSA)'s Center for Mental Health Services (CMHS) is requesting clearance for the new data collection associated with the evaluation of the SAMHSA Zero Suicide in Health Systems (Zero Suicide Evaluation). The Zero Suicide program is authorized under the CURES Act. SAMHSA is required to evaluate the Zero Suicide grant, specifically (1) evaluate the activities supported by grants awarded, disseminate, as appropriate, the findings from the evaluation; and (2) provide appropriate information, training, and technical assistance, as appropriate, to eligible entities that receive a grant under this section, in order to help such entities to meet the requirements of this section, including assistance with selection and implementation of evidence.

The goal of the Zero Suicide program is the reduction of suicide and suicide attempts across America, focusing on individuals who are 25 years and older. The purpose of this program is to implement the Zero Suicide intervention and prevention model for adults throughout a health system or systems. The Zero Suicide model is a comprehensive, multi-setting approach to suicide prevention in health systems. To accomplish this critical, lifesaving work, it is essential that the effectiveness of these programs be evaluated on an ongoing basis, with implementation of suicide prevention programs continually informed by high-quality evaluation results. SAMHSA will use this data to reduce suicide ideation, suicide attempts, and deaths due to suicide.

SAMHSA has awarded new grants and continued funding to 25 grantees, Cohort 5 (15 grantees) with project period of Sept 30, 2023, to Sept 29, 2028; and Cohort 4 (10 grantees; includes one tribal organization) with project period of March 31, 2021, to March 30, 2026. SAMHSA has requested funding for 11 grantees to be funded as Cohort 6 in the fiscal year 2025.

The Zero Suicide Evaluation is designed to evaluate the implementation, effectiveness, and overall impact of the Zero Suicide program upon grantees in the United States. The evaluation will assess Zero Suicide program activities implemented by grantees and ultimately provide SAMHSA with the information needed to understand and document program effectiveness on reducing suicide morbidity and mortality, specifically among those who encounter the healthcare system. While acknowledging the lack of evidence for cultural adaptations to evidence-based and empirically supported treatments and interventions, and that research has not been conducted with historically marginalized and underserved communities (e.g., Black, Asian, Autistic, Lesbian, Gay, Bisexual, Transgender, Queer, Intersex, and Asexual Plus (LGBTQIA+), and others), Zero Suicide pushes systems to ensure that clients' cultural contexts are considered and honored in what treatments are offered and how those treatments are adapted. Thus, with behavioral health equity as a central component woven throughout the Zero Suicide Framework, the proposed evaluation will ensure that each study includes specific behavioral health equity tenets to ensure a culturally specific understanding of Zero Suicide implementation, outcomes, and impacts.

The Zero Suicide Evaluation includes four studies: Systems Change, Work Force, Consumer Experience, and Impact. The purpose of the Systems Change Study is to understand how grantees are implementing the Zero Suicide Program. The Systems Change Study collection instruments include the: Prevention Strategies Inventory (PSI), Behavioral Health Provider Survey (BHPS), Case Studies, and Cost Sub-Studies.

The purpose of the Workforce Study is to document staff awareness and perceptions associated with the Zero Suicide activities implemented by Zero Suicide-participating Healthcare Organizations (HCOs). The Workforce Study instruments include the: Work Force Survey (WFS), Training Activity Summary Page (TASP), and the Training Utilization and Preservation Survey (TUPS).

The purpose of Consumer Experience Study is to understand the relationship between Zero Suicide activities and key clinical outcomes (i.e., suicide risk, depression), along with consumer perceptions of care, access to care, services received, and treatment adherence. The Consumer Experience Study instruments include the: BHPS, Consumer Experience Survey (CES), Clinical Outcomes Form (COF), and Grantee Performance Data.

The Impact Study will use secondary data and quasi-experimental designs to develop a control group and estimate the causal impact of the Zero Suicide Program on suicide morbidity and mortality.

Ultimately, the purpose of the Zero Suicide Evaluation is to build the program's knowledge base of effectiveness by thoroughly describing the implementation, outcomes, and impact of a program meant to reduce deaths by suicide.

The total annualized burden is an estimated 15,504 respondents for the Zero Suicide instruments, with a combined hourly estimate to be 4,902 hours. Burden estimates are based on the data collection requirements and the number of respondents. The estimated response burden to collect this information associated with the Zero Suicide Evaluation annualized over the requested 3-year clearance period is presented below:

Total and Annualized Averages: Respondents, Responses and Hours
Type of respondent | Form | Number of respondents per year | Responses per respondent | Total number of responses | Burden per response (hours) | Annual burden (hours) | Hourly wage rate | Total cost
Project Evaluator ¹ | PSI | 40 | 4 | 160 | 1 | 160 | $61.53 | $9,845
Grantee/HCO administrator ² | BHPS | 47 | 1 | 47 | 0.5 | 24 | 61.53 | 1,477
Grantee/HCO administrator ² | KII—Case Studies | 7 | 1 | 7 | 1 | 7 | 61.53 | 431
HCO Staff ³ | KII—Case Studies | 27 | 1 | 27 | 1 | 27 | 26.81 | 724
Grantee/HCO administrator ² | KII—Cost Sub studies | 2 | 1 | 2 | 1 | 2 | 61.53 | 123
HCO Staff ³ | WFS | 9,400 | 1 | 9,400 | 0.25 | 2,350 | 26.81 | 63,004
Project Evaluator ¹ | TASP | 40 | 10 | 400 | 0.25 | 100 | 36.67 | 3,667
HCO Staff ³ | TUPS—Baseline | 3,334 | 1 | 3,334 | 0.25 | 834 | 26.81 | 22,360
HCO Staff ³ | TUPS—6 month | 252 | 1 | 252 | 0.5 | 126 | 26.81 | 3,378
HCO Staff ³ | TUPS—12 month | 189 | 1 | 189 | 0.5 | 95 | 26.81 | 2,547
Clinicians | C—SIF | 180 | 8.3 | 1,494 | 0.25 | 374 | 57.21 | 21,397
Consumer | CES—Baseline | 1,128 | 1 | 1,128 | 0.4 | 451 | 7.25 | 3,270
Consumer | CES—6-month | 843 | 1 | 843 | 0.4 | 337 | 7.25 | 2,443
Consumer | C—KII | 15 | 1 | 15 | 1 | 15 | 7.25 | 109
Total |  | 15,504 |  | 17,298 |  | 4,902 |  | 134,773
Abbreviation: HCO = Healthcare Organization.
¹ BLS OES May 2022 National Industry-Specific Occupation Employment and Wage Estimates average annual salary for Survey Researchers (code 19-3022); https://www.bls.gov/oes/cuSeetrrent/naics5_541720.htm.
² BLS OES May 2022 National Industry-Specific Occupation Employment and Wage Estimates average annual salary for Medical and Health Services Managers (code 11-9111); https://www.bls.gov/oes/current/oes119111.htm.
³ BLS OES May 2022 National Industry-Specific Occupation Employment and Wage Estimates average annual salary for Community and Social Service Occupations (code 29-1000); https://www.bls.gov/oes/current/oes210000.htm.
⁴ BLS OES May 2022 National Industry-Specific Occupation Employment and Wage Estimates average annual salary for Health Diagnosing and Treating Practitioners (code 29-1000); https://www.bls.gov/oes/current/oes_nat.htm#29-0000.
⁵ BLS OES May 2022 Characteristics of minimum wage workers, 2022; https://www.bls.gov/opub/reports/minimum-wage/2022/home.htm#:~:text=In%202022%2C%2078.7%20million%20workers,wage%20of%20%247.25%20per%20hour.

Written comments and recommendations for the proposed information collection should be sent within 30 days of publication of this notice to www.reginfo.gov/public/do/PRAMain. Find this particular information collection by selecting “Currently under 30-day Review—Open for Public Comments” or by using the search function.

Alicia Broadus,
Public Health Advisor.

[FR Doc. 2024-27065 Filed 11-19-24; 8:45 am]

BILLING CODE 4162-20-P